DEPARTMENT OF TRANSPORTATION

Office of the Secretary

[Docket No. DOT-OST-2015-0083]; [OMB No. 2105-0551]

RIN 2105-ADO4

Application to Renew Information Collection Request

AGENCY: Office of the Secretary, Department of Transportation (Department).

ACTION: Notice and request for comments.

SUMMARY: In accordance with the Paperwork Reduction Act of 1995 (44 U.S.C. Chapter 35, as amended) this notice announces the Department's intention to apply to the Office of Management and Budget (OMB) to renew approval of the information collection request (ICR) OMB No. 2105-0551, “Reporting Requirements for Disability-Related Complaints.”

DATES: Comments on this notice must be received by June 15, 2015.

ADDRESSES: You may submit comments [identified by Docket No. DOT-OST-2015-0083] through one of the following methods:

• Federal eRulemaking Portal: http://www.regulations.gov. Follow the online instructions for submitting comments.

• Fax: 1-202-493-2251

• Mail: Docket Management Facility, U.S. Department of Transportation, 1200 New Jersey Avenue SE., Washington, DC 20590.

• Hand Delivery: West Building, Ground Floor, Rm. W-12-140, 1200 New Jersey Ave. SE., Washington, DC 20590-0001 (between 9 a.m. and 5 p.m. EST, Monday through Friday, except on Federal holidays).

FOR FURTHER INFORMATION CONTACT: Maegan Johnson, Office of the General Counsel, Office of the Secretary, U.S. Department of Transportation, 1200 New Jersey Avenue SE., Washington, DC 20590, 202-366-9342 (Voice), 202-366-7152 (Fax), or maegan.johnson@dot.gov (Email). Arrangements to receive this document in an alternative format may be made by contacting the above-named individuals.

SUPPLEMENTARY INFORMATION:

Title: Reporting Requirements for Disability-Related Complaints

OMB Control Number: 2105-0551

Type of Request: Renewal of Information Collection Request

Background: On July 8, 2003, the Office of the Secretary published a final rule that requires most certificated U.S. and foreign air carriers operating to, from and within the U.S. that conduct passenger-carrying service utilizing at least one large aircraft to record complaints that they receive alleging inadequate accessibility or discrimination on the basis of disability. The carriers must also categorize these complaints according to the type of disability and nature of complaint, prepare a summary report annually of the complaints received during the preceding calendar year, submit the report to the Department's Aviation Consumer Protection Division, and retain copies of correspondence and records of action taken on the reported complaints for three years. The rule requires carriers to submit their annual report via the World Wide Web except if the carrier can demonstrate an undue burden by doing so and receives permission from the Department to submit it in an alternative manner. The first required report covered disability-related complaints received by carriers during calendar year 2004, which was due to the Department on January 31, 2005. Carriers have been required to submit all subsequent reports on the last Monday in January for the prior calendar year.

Respondents: Certificated U.S. and foreign air carriers operating to, from, and within the United States that conduct passenger-carrying service with at least one large aircraft.

Requirements | Number of respondents | Frequency (per year) | Estimated annual burden (per respondent) | Estimated total annual burden (all respondents)
Record an Categorize Complaints Received | 175 | 0 to 5,000 | 0 to 1,250 hours | 6,900 hours
Prepare and Submit Annual Report | 175 | 1 | .5 hour | 87.5 hours
Retain Correspondences and Record of Action Taken | 175 | 0 to 5,000 | 1 hour | 175 hours

Comments are invited on: (a) Whether the collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology. All responses to this notice will be summarized and included in the request for OMB approval. All comments will also become a matter of public record.

Issued in Washington, DC on April 9, 2015.
Blane A. Workie,
Assistant General Counsel for Aviation Enforcement and Proceedings.

[FR Doc. 2015-08738 Filed 4-15-15; 08:45 am]

BILLING CODE 4910-9X-P